DEPARTMENT OF JUSTICE

Foreign Claims Settlement Commission

[F.C.S.C. Meeting Notice No. 2-05]

Sunshine Act Meetings; Notice

The Foreign Claims Settlement Commission, pursuant to its regulations (45 CFR part 504) and the Government in the Sunshine Act (5 U.S.C. 552b), hereby gives notice in regard to the scheduling of meetings for the transaction of Commission business and other matters specified, as follows:

Date and Time: Thursday, April 7, 2005, at 10 a.m.

Subject Matter: (1) Issuance of Proposed Decisions in claims against Albania;

(2) Consideration of petitions to reopen Final Decisions in claims against Albania;

(3) Consideration of a petition to withdraw a claim previously filed against Albania.

Status: Open.

All meetings are held at the Foreign claims Settlement Commission, 600 E Street, NW., Washington, DC. Requests for information, or advance notices of intention to observe an open meeting, may be directed to: Administrative Officer, Foreign Claims Settlement Commission, 600 E Street, NW., Room 6002, Washington, DC 20579. Telephone: (202) 616-6988.

Mauricio J. Tamargo,
Chairman.

[FR Doc. 05-6416 Filed 3-29-05; 9:31 am]

BILLING CODE 4410-01-P